DEPARTMENT OF LABOR

Employment and Training Administration

[TA-W-65,401]

Ingersoll Rand Industrial Technologies, Incorporated, Southern Pines, NC; Notice of Termination of Investigation

Pursuant to Section 221 of the Trade Act of 1974, as amended, an investigation was initiated on February 26, 2009 in response to a petition filed on behalf of workers of Ingersoll Rand Industrial Technologies, Southern Pines, North Carolina.

The petitioner has requested that the petition be withdrawn. Therefore, the investigation under this petition has been terminated.

Signed at Washington, DC, this 10th day of April 2009.
Linda G. Poole,
Certifying Officer, Division of Trade Adjustment Assistance.

[FR Doc. E9-10871 Filed 5-8-09; 8:45 am]

BILLING CODE 4510-FN-P